DEPARTMENT OF THE INTERIOR

Office of Natural Resources Revenue

[Docket No. ONRR-2011-0018]

Notice of Proposed Audit Delegation Renewals for the States of Oklahoma and Montana

AGENCY: Office of Natural Resources Revenue (ONRR), Interior.

ACTION: Notice of States' proposals for audit delegation renewals.

SUMMARY: The States of Oklahoma and Montana (States) are requesting that the Office of Natural Resources Revenue (ONRR) renew current delegations of audit and investigation authority. This notice gives members of the public an opportunity to review and comment on the States' proposals.

DATES: Submit written comments on or before July 28, 2011.

ADDRESSES: You may submit comments on this notice to ONRR by any of the following methods:

• Electronically go to http://www.regulations.gov. In the entry titled “Enter Keyword or ID,” enter ONRR-2011-0018, and then click search. Follow the instructions to submit public comments. The ONRR will post all comments.

• Mail comments to Armand Southall, Regulatory Specialist, ONRR, P.O. Box 25165, MS 61013C, Denver, Colorado 80225. Please reference the Docket No. ONRR-2011-0018 in your comments.

• Hand-carry comments or use an overnight courier service. Our courier address is Building 85, Room A-614, Denver Federal Center, West 6th Ave. and Kipling St., Denver, Colorado 80225. Please reference the Docket No. ONRR-2011-0018 in your comments.

FOR FURTHER INFORMATION CONTACT: For questions on technical issues, contact Heidi Badaracco, State and Indian Coordination, Financial and Program Management, ONRR, telephone (303) 231-3434. For comments or questions on procedural issues, contact Armand Southall, Regulatory Specialist, ONRR, telephone (303) 231-3221. You may obtain a paper copy of the proposals by contacting Mr. Southall by phone or at the address listed above for mailing comments.

SUPPLEMENTARY INFORMATION: The following officials are the States' contacts for these proposals:

State | Department | Contact information
Montana | Montana Department of Revenue, Business, & Income Taxes | Van Charlton, 125 North Roberts, Helena, MT 59601-4558, vcharlton@mt.gov, 406-444-3584.
Oklahoma | Oklahoma State Auditor & Inspector's Office | Mark Hudson, Director, Minerals Management Division, 2401 NW. 23rd Street, Suite 39, Oklahoma City, OK 73107.

The ONRR received the States' proposals January through March 2010. Under 30 CFR 1227.101(b)(1) (2010), the States request that ONRR delegate the royalty management functions of conducting audits and investigations. The States request delegation of these functions for producing Federal oil and gas leases within the States' boundaries, as applicable, and for other producing solid mineral or geothermal Federal leases within the States. The States do not request delegation of royalty and production reporting functions.

The States of Oklahoma and Montana request 100-percent funding of the delegated functions for a 3-year period beginning October 1, 2011, with the opportunity to extend for an additional 3-year period. These States have current audit delegation agreements with ONRR, as shown in the table below. Therefore, ONRR has determined that a formal hearing for comments will not be held under 30 CFR 1227.105.

State | Agreement No. | Term
Oklahoma | 0206CA25938 | 10/1/2005—09-30-2011
Montana | 0206CA25939 | 10/1/2005—09-30-2011

Dated: June 23, 2011.
Gregory J. Gould,
Director for Office of Natural Resources Revenue.

[FR Doc. 2011-16116 Filed 6-27-11; 8:45 am]

BILLING CODE 4310-MR-P